INTERNATIONAL TRADE COMMISSION

[Investigation No. 337-TA-764]

Certain Digital Televisions and Components Thereof, and Certain Electronic Devices Having a Blu-Ray Disc Player and Components Thereof; Notice of Commission Determination Not To Review an Initial Determination Terminating the Investigation Based on a Settlement Agreement; Termination of Investigation

AGENCY: U.S. International Trade Commission.

ACTION: Notice.

SUMMARY: Notice is hereby given that the U.S. International Trade Commission has determined not to review the presiding administrative law judge's (“ALJ”) initial determination (“ID”) (Order No. 13) granting a joint motion to terminate the investigation based on a settlement agreement. The investigation is terminated.

FOR FURTHER INFORMATION CONTACT: Megan M. Valentine, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 9, 2011, based on complaints filed by LG Electronics, Inc. of Seoul, Korea (“LGE”). 76 FR 12994-5 (Mar. 9, 2011). The complaints allege violations of section 337 of the Tariff Act of 1930, as amended, 19 U.S.C. 1337, in the importation into the United States, the sale for importation, and the sale within the United States after importation of certain digital televisions and components thereof by reason of infringement of certain claims of U.S. Patent Nos. 6,785,906; RE 37,326; 5,533,071; and 5,923,711, and of certain electronic devices having a Blu-Ray disc player and components thereof by reason of infringement of certain claims of U.S. Patent Nos. 7,701,835; 7,577,080; 7,619,961; and 7,756,398. The complaints further allege the existence of a domestic industry. The Commission's notice of investigation named as respondents Sony Corporation of Tokyo, Japan; Sony Corporation of America of New York, New York; Sony Electronics, Inc. of San Diego, California; Sony Computer Entertainment, Inc. of Tokyo, Japan; and Sony Computer Entertainment America LLC of Foster City, California (collectively “Sony”).

On August 10, 2011, LGE and Sony filed a joint motion to terminate the investigation based on their having entered into a binding memorandum of understanding, which resolves all of LGE's claims against Sony. On August 22, 2011, the Commission investigative attorney filed a response in support of the joint motion.

On August 23, 2011, the ALJ issued the subject ID, granting the joint motion to terminate the investigation pursuant to Commission rules 210.21(a)(2) and (b)(1) (19 CFR 210.21(a)(2) and (b)(1)). No petitions for review of this ID were filed.

The Commission has determined not to review the ID.

The authority for the Commission's determination is contained in section 337 of the Tariff Act of 1930, as amended (19 U.S.C. 1337), and in section 210.42 of the Commission's Rules of Practice and Procedure (19 CFR 210.42).

Issued: September 16, 2011.
By order of the Commission.
James R. Holbein,
Secretary to the Commission.

[FR Doc. 2011-24336 Filed 9-21-11; 8:45 am]

BILLING CODE 7020-02-P